DEPARTMENT OF JUSTICE

[OMB Number 1122-NEW]

Agency Information Collection Activities; Proposed eCollection eComments Requested; New Collection

AGENCY: Office on Violence Against Women, Department of Justice.

ACTION: 30-Day notice.

SUMMARY: The Department of Justice (DOJ), Office on Violence Against Women, will be submitting the following information collection request to the Office of Management and Budget (OMB) for review and approval in accordance with the Paperwork Reduction Act of 1995. The proposed information collection was previously published in the Federal Register Volume 79, Number 202, page 62672, on October 20, 2014, allowing for a 60-day comment period.

DATES: Comments are encouraged and will be accepted for an additional 30 days until January 22, 2015.

FOR FURTHER INFORMATION CONTACT: If you have comments especially on the estimated public burden or associated response time, suggestions, or need a copy of the proposed information collection instrument with instructions or additional information, please contact Cathy Poston, Attorney Advisor, Office on Violence Against Women, 145 N Street NE., Washington, DC 20530 (phone: 202-514-5430). Written comments and/or suggestions can also be directed to the Office of Management and Budget, Office of Information and Regulatory Affairs, Attention Department of Justice Desk Officer, Washington, DC 20530 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: New collection.

(2) Title of the Form/Collection: Survey of Victim Services Organizations Receiving Funds under Grant Programs Authorized under the Violence Against Women Act.

(3) Agency form number, if any, and the applicable component of the Department of Justice sponsoring the collection: Form Number: 1122—NEW. U.S. Department of Justice, Office on Violence Against Women.

(4) Affected public who will be asked or required to respond, as well as a brief abstract: Primary: The affected public includes approximately 800 victim services organizations currently or previously funded through grant programs authorized under the Violence Against Women Act (VAWA) and administered by the Office on Violence Against Women. Organization that provide victim services are increasingly using trauma informed services and interventions. OVW seeks to understand which grantees are engaged in the provision of trauma informed services and interventions, how trauma informed services and interventions are being implemented, and identify best practices. In order to better support current and future grantees who provide comprehensive, holistic services to victims of domestic violence, dating violence, sexual assault and stalking, OVW will gather information through an electronic online survey tool about trauma informed services. This information will assist OVW in the implementation of grant programs that are authorized to support victim services and will also benefit other communities that want to consider using funds to support similar services.

In addition, OVW will be able to provide more effective training and technical to grantees on implementing trauma informed services.

(5) An estimate of the total number of respondents and the amount of time estimated for an average respondent to respond/reply: It is estimated that it will take the approximately 800 respondents (victim service organizations currently or previously funded through grant programs authorized by VAWA and administered by OVW) approximately 30 minutes to complete the survey. The survey will include 10 questions about the respondents' understanding of trauma informed services and interventions, how trauma informed services and interventions are being implemented, successes and challenges of utilizing trauma informed services and interventions, and a survey of best practices. The survey will include a combination of multiple choice questions and questions involving a rating scale as well one or two narrative questions.

(6) An estimate of the total public burden (in hours) associated with the collection: The total annual hour burden to complete the data collection forms is 400 hours, that is approximately 800 respondents with an estimated completion time for the form being 30 minutes.

If additional information is required contact: Jerri Murray, Department Clearance Officer, United States Department of Justice, Justice Management Division, Policy and Planning Staff, Two Constitution Square, 145 N Street NE., Room 3W-1407B, Washington, DC 20530.

Dated: December 18, 2014.
Jerri Murray,
Department Clearance Officer for PRA, U.S. Department of Justice.

[FR Doc. 2014-29999 Filed 12-22-14; 8:45 am]

BILLING CODE 4410-FX-P